DEPARTMENT OF THE INTERIOR

National Park Service

[NPS-WASO-NAGPRA-NPS0037157; PPWOCRADN0-PCU00RP14.R50000]

Notice of Inventory Completion: U.S. Department of the Interior, National Park Service, Hopewell Culture National Historical Park, Chillicothe, OH

AGENCY: National Park Service, Interior.

ACTION: Notice.

SUMMARY: In accordance with the Native American Graves Protection and Repatriation Act (NAGPRA), the U.S. Department of the Interior, National Park Service, Hopewell Culture National Historical Park has completed an inventory of human remains and associated funerary objects and has determined that there is a cultural affiliation between the human remains and associated funerary objects and Indian Tribes or Native Hawaiian organizations in this notice. The human remains and associated funerary objects were removed from Ross County, OH.

DATES: Repatriation of the human remains and associated funerary objects in this notice may occur on or after February 2, 2024.

ADDRESSES: Chris Alford, Superintendent, Hopewell Culture National Historical Park, 16062 State Route 104, Chillicothe, OH 45601, telephone (740) 774-1126, email chris_alford@nps.gov.

SUPPLEMENTARY INFORMATION: This notice is published as part of the National Park Service's administrative responsibilities under NAGPRA. The determinations in this notice are the sole responsibility of the Superintendent, Hopewell Culture National Historical Park. Additional information on the determinations in this notice, including the results of consultation, can be found in the inventory or related records held by Hopewell Culture National Historical Park.

Description

Human remains representing, at minimum, three individuals were removed from the Mound City Group, Ross County, OH, between 1920 and 1921 by William C. Mills of the Ohio State Archaeological and Historical Society (now Ohio History Connection). The human remains were removed from federal property and were accessioned into the collections at Mound City Group National Monument (now Hopewell Culture National Historical Park). The human remains most probably date to the Late Woodland and/or Late Precontact Periods. No associated funerary objects are present.

Human remains representing, at minimum, one individual were removed from the farm of Alva McGraw in Ross County, OH in 1962 by an unknown person. The human remains and funerary objects were gifted to Mound City Group National Monument (now Hopewell Culture National Historical Park) by Alva McGraw in 1963. The human remains and associated funerary objects most probably date from the Middle Woodland, Late Woodland, or Late Precontact Period. The 94 associated funerary objects are one utilized flake and 93 ceramic sherds.

Human remains representing one individual were removed from Gartner Bottoms, Ross County, OH in 1964 by National Park Service archeologist Richard Faust and added to the museum collection at Mound City National Monument (now Hopewell Culture National Historical Park). The human remains most probably date to the Late Precontact period and are associated with Fort Ancient archeological culture. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, historical information, linguistics, oral tradition.

Determinations

Pursuant to NAGPRA and its implementing regulations, and after consultation with the appropriate Indian Tribes and Native Hawaiian organizations, Hopewell Culture National Historical Park has determined that:

• The human remains described in this notice represent the physical remains of five individuals of Native American ancestry.

• The 94 objects described in this notice are reasonably believed to have been placed with or near individual human remains at the time of death or later as part of the death rite or ceremony.

• There is a relationship of shared group identity that can be reasonably traced between the human remains and associated funerary objects described in this notice and the Absentee-Shawnee Tribe of Indians of Oklahoma; Eastern Shawnee Tribe of Oklahoma; Miami Tribe of Oklahoma; and the Shawnee Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 2, 2024. If competing requests for repatriation are received, Hopewell Culture National Historical Park must determine the most appropriate requestor prior to repatriation. Requests for joint repatriation of the human remains and associated funerary objects are considered a single request and not competing requests. Hopewell Culture National Historical Park is responsible for sending a copy of this notice to the Indian Tribes and Native Hawaiian organizations identified in this notice.

Authority: Native American Graves Protection and Repatriation Act, 25 U.S.C. 3003, and the implementing regulations, 43 CFR 10.9, 10.10, and 10.14.

Dated: December 20, 2023.
Melanie O'Brien,
Manager, National NAGPRA Program.

[FR Doc. 2023-28913 Filed 1-2-24; 8:45 am]

BILLING CODE 4312-52-P